DEPARTMENT OF HEALTH AND HUMAN SERVICES

Centers for Disease Control and Prevention

[60Day-20-20BY; Docket No. CDC-2019-0104]

Proposed Data Collection Submitted for Public Comment and Recommendations

AGENCY: Centers for Disease Control and Prevention (CDC), Department of Health and Human Services (HHS)

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Pilot Project: Work Organization Risks to Short-haul Truck Drivers' Health & Safety. This study is designed to assess how local/short haul drivers perceive their work environments, and how that relates to their well-being.

DATES: CDC must receive written comments on or before January 21, 2020.

ADDRESSES: You may submit comments, identified by Docket No. CDC-2019-0104 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Pilot Project: Work Organization Risks to Short-haul Truck Drivers' Health & Safety—New—National Institute for Occupational Safety and Health (NIOSH), Centers for Disease Control and Prevention (CDC).

Background and Brief Description

Commercial truck drivers face widely acknowledged safety risks on the job and are at an increased risk for heart disease, diabetes, hypertension, and obesity. Long and irregular work hours, lack of breaks, inadequate sleep, and little access to exercise facilities and healthy eating options contribute to drivers' health and safety problems. Additionally, health complications of obesity (e.g., sleep apnea, type II diabetes) place truckers at even greater risk of roadway crashes. Much of what we know about work and health is based on knowledge gleaned from research on long-haul commercial drivers. Local short haul drivers are those who generally return home each night after work, and who travel no more than 150 miles from the employer's terminal each day (whereas long-haul drivers are away from home for long periods of time and drive much greater distances daily). This research addresses a gap in knowledge and responds to stakeholders' requests for research that examines work organization in local short-haul commercial driving. The purpose of this data collection is to learn more about the local short-haul trucking industry and how the complex interplay between job design and individual health behaviors affects the safety, health, and well-being of commercial drivers. NIOSH is requesting a 12-month OMB approval.

A survey will be used to collect cross-sectional data from 300 local short-haul commercial drivers. Drivers will answer questions about work design, organizational policies, occupational stressors, physical health, safety, and mental well-being. The data collected will be used to characterize work organization in local short-haul commercial driving, and analyzed to examine the association between work design and driver physical health, mental health, well-being, and safety.

Stakeholders in trucking associations have agreed to promote participation in the study amongst their member organizations. A sample of 300 drivers will be recruited from across several commercial driving companies over a six-month time period. This is a cross-sectional survey. Drivers will complete the survey only one time. It is estimated that the survey will take about 30 minutes to complete. All responses are anonymous, and no personally identifiable information will be collected. There are no costs to respondents other than their time. The total estimated burden requested from respondents is 149 hours.

Estimated Annualized Burden Hours
Type of respondents | Form name | Number of respondents | Number of responses per respondent | Average burden per response (in hours) | Total burden (in hours)
Screening of Drivers | Screening | 300 | 1 | 5/60 | 25
L/SH Truck Drivers | Hardcopy Survey Sections 1-7 | 297 | 1 | 25/60 | 124
Total |  |  |  |  | 149

Jeffrey M. Zirger,
Lead, Information Collection Review Office, Office of Scientific Integrity, Office of Science, Centers for Disease Control and Prevention.

[FR Doc. 2019-25148 Filed 11-19-19; 8:45 am]

BILLING CODE 4163-18-P